DEPARTMENT OF DEFENSE

Office of the Secretary

Defense Advisory Committee on Investigation, Prosecution, and Defense of Sexual Assault in the Armed Forces; Notice of Federal Advisory Committee Meeting

AGENCY: General Counsel of the Department of Defense, Department of Defense (DoD).

ACTION: Notice of Federal Advisory Committee meeting.

SUMMARY: The DoD is publishing this notice to announce that the following Federal Advisory Committee meeting of the Defense Advisory Committee on Investigation, Prosecution, and Defense of Sexual Assault in the Armed Forces will take place.

DATES: Day 1—Open to the public, Tuesday, June 21, 2022, from 9:25 a.m. to 4:45 p.m. EST. Day 2—Open to the public, Wednesday, June 22, 2022, from 9:00 a.m. to 3:00 p.m. EST.

ADDRESSES: Ritz Carlton, Pentagon City, 1250 S Hayes Street, Arlington, Virginia 22202.

FOR FURTHER INFORMATION CONTACT: Dwight Sullivan, 703-695-1055 (voice), dwight.h.sullivan.civ@mail.mil (email). Mailing address is DAC-IPAD, One Liberty Center, 875 N Randolph Street, Suite 150, Arlington, Virginia 22203. Website: http://dacipad.whs.mil/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Due to circumstances beyond the control of the Designated Federal Officer, the Defense Advisory Committee on Investigation, Prosecution, and Defense of Sexual Assault in the Armed Forces was unable to provide public notification required by 41 CFR 102-3.150(a) concerning its June 21 through June 22, 2022 meeting. Accordingly, the Advisory Committee Management Officer for the Department of Defense, pursuant to 41 CFR 102-3.150(b), waives the 15-calendar day notification requirement.

Purpose of the Meeting: In Section 546 of the National Defense Authorization Act for Fiscal Year 2015 (Pub. L. 113-291), as modified by Section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the twenty-third public meeting held by the DAC-IPAD. On the first day of the meeting, the Committee will discuss its Terms of Reference, establishing subcommittees, and its current statutory and assigned tasks. The Committee will then receive a briefing on appellate decisions in military sexual assault cases. The Committee will then receive an update on data, followed by a briefing on the Joint Explanatory Statement, National Defense Authorization Act for Fiscal Year 2020. In the afternoon, the Committee will hear from State and federal prosecutors on best practices for establishing an independent prosecutorial office. This will be followed by a Committee discussion about best practices. At the last session of the day, the Committee will receive an overview of the Report on Tour Lengths and Rating Chain Structure for Services' Special Victims' Counsel/Victims' Legal Counsel Programs. On the second day of the meeting, the Committee will receive a briefing on the Rules for Courts-Martial amendment process. Next the Committee will host a panel of Military Department representatives to discuss the Offices of Special Trial Counsel. In the afternoon, the Committee will conclude with a strategic planning discussion. Prior to adjourning, the Committee will receive public comments.

Agenda: Tuesday, June 21, 2022: 9:25 a.m.-9:30 a.m. Public Meeting Begins—Welcome and Introduction; 9:30 a.m.-10:20 a.m. Bylaws, Terms of Reference, Subcommittees, and Committee Task Review and Update; 10:20 a.m.-10:30 a.m. Break; 10:30 a.m.-11:00 a.m. Appellate Decisions in Military Sexual Assault Cases; 11:00 a.m.-11:30 a.m. Data Update; 11:30 a.m.-12:00 p.m. Fiscal Year 2020 National Defense Authorization Act, Joint Explanatory Statement; 12:00 p.m.-1:15 p.m. Lunch; 1:15 p.m.-1:30 p.m. Offices of Special Trial Counsel Overview; 1:30 p.m.-3:00 p.m. Civilian Prosecutors Panel: Best Practices for Establishing an Independent Prosecutorial Office; 3:00 p.m.-3:15 p.m. Break; 3:15 p.m.-4:00 p.m. Committee Members' Assessment of Best Practices for Establishing an Independent Prosecutorial Office; 4:00 p.m.-4:45 p.m. Special Victims' Counsel/Victims' Legal Counsel Report Overview and Discussion; 4:45 p.m. Public Meeting Adjourned. Wednesday, June 22, 2022: 9:00 a.m. Public Meeting Begins; 9:00 a.m.-9:45 a.m. Presentation on the Rules for Courts-Martial Amendment Process to Implement National Defense Authorization Act for Fiscal Year 2022 Military Justice Reforms; 9:45 a.m.-10:00 a.m. Break; 10:00 a.m.-11:30 a.m. Offices of Special Trial Counsel Panel; 11:30 a.m.-12:30 p.m. Lunch; 12:30 p.m.-2:30 p.m. Strategic Planning Discussion; 2:30 p.m.-3:00 p.m. Public Comment; 3:00 p.m. Public Meeting Adjourned.

Meeting Accessibility: Pursuant to 5 U.S.C. 552b and 41 CFR 102-3.140 through 102-3.165, this meeting is open to the public. Seating is limited and is on a first-come basis. Please consult the website for any changes to the public meeting date or time.

Written Statements: Pursuant to 41 CFR 102-3.140 and Section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 2:30 p.m.-3:00 p.m. EST on June 22, 2022.

Dated: June 9, 2022.
Aaron T. Siegel,
Alternate OSD Federal Register, Liaison Officer, Department of Defense.

[FR Doc. 2022-12770 Filed 6-13-22; 8:45 am]

BILLING CODE 5001-06-P